DEPARTMENT OF THE INTERIOR

Bureau of Land Management

[LLNVS01000 L5105.0000.EA0000 LVRCF197050 19X MO#4500140295]

Notice of Temporary Closure of Public Land in Clark County, NV

AGENCY: Bureau of Land Management, Interior.

ACTION: Temporary closures on public lands.

SUMMARY: The Las Vegas Field Office announces the temporary closures of certain public lands under its administration. The Off-Highway Vehicle (OHV) race area in Laughlin, Nevada, is used by OHV recreationists, and the temporary closures are needed to limit their access to the race area and to minimize the risk of potential collisions with spectators and racers. The closures will occur during two events: The 2019 Rage at the River and the 2020 Laughlin Desert Classic Off-Highway Vehicle Races.

DATES: The temporary closure for the 2019 Rage at the River will go into effect at 12:01 a.m. on December 14, 2019, and will remain in effect until 11:59 p.m. on December 15, 2019. The temporary closure for the 2020 Laughlin Desert Classic will go into effect at 12:01 a.m. on February 22, 2020, and will remain in effect until 11:59 p.m. on February 23, 2020.

ADDRESSES: The temporary closure order, news release, and map of the temporary closure area for each event will be posted at the BLM Las Vegas Field Office, 4701 North Torrey Pines Drive, Las Vegas, Nevada 89130 and on the BLM website at www.blm.gov. These materials will also be posted at the access point of the Laughlin race area and the surrounding areas.

FOR FURTHER INFORMATION CONTACT: Kenny Kendrick, Outdoor Recreation Planner, telephone: (702) 515-5073, email: Kkendrick@blm.gov. Persons who use a telecommunications device for the deaf (TDD) may call the Federal Relay Service (FRS) at 1-800-877-8339 to contact Mr. Kendrick during normal business hours. The FRS is available 24 hours a day, 7 days a week, to leave a message. You will receive a reply during normal business hours.

SUPPLEMENTARY INFORMATION: The Las Vegas Field Office announces the temporary closures of certain public lands under its administration. This action is being taken to help ensure public safety during the official permitted running of both the 2019 Rage at the River and the 2020 Laughlin Desert Classic. The public lands affected by this closure are described as follows:

Mount Diablo Meridian, Nevada

T. 32 S, R. 66 E,

sec. 8, lots 2 thru 33;

sec. 9;

sec. 10, S½NE¼, S½NW¼, and S½;

sec. 11, S½NE¼, S½NW¼, and S½;

sec. 14;

sec. 15, E½;

sec. 16, N½, SW¼, and N½SE¼;

sec. 17, lots 1 thru 8, lots 21 thru 25, and lots 30 thru 44.

The area described contains 4,521.97 acres, according to the official plats of survey of the above lands which are on file with the BLM.

Roads leading into the public lands under the temporary closures will be posted to notify the public of the closures for both events. The closures area includes State Route 163 to the north, T. 32S, R. 66E sections 8 and 17 to the west, private and State land in T. 32S, R. 66E sections 20, 21, 22 and 23, and is bracketed by Bruce Woodbury Drive to the south and southwest, and Thomas Edison Drive to the east. Under the authority of Section 303(a) of the Federal Land Policy and Management Act of 1976 (43 U.S.C. 733(a)), 43 CFR 8360.0-7 and 43 CFR 8364.1, the BLM will enforce the following rules in the area described above.

The entire area as listed in the legal description above is closed to all vehicles and personnel except Law Enforcement, Emergency Vehicles, event personnel, event participants and spectators. Access routes leading to the closed area are closed to vehicles. No vehicle stopping or parking in the closed area except for designated parking areas will be permitted. Event participants and spectators are required to remain within designated areas only.

The following restrictions will be in effect for the duration of the closure to ensure public safety of participants and spectators. Unless otherwise authorized, the following activities within the closure area are prohibited:

• Camping.

• Possessing and/or consuming any alcoholic beverage, unless the person has reached the age of 21 years.

• Discharging or use of firearms or other weapons.

• Possession and/or discharging of fireworks.

• Allowing any pet or other animal in one's care to be unrestrained at any time. Animals must be on a leash or other restraint no longer than 3 feet.

• Operating any vehicle, including All Terrain Vehicles (ATV), motorcycles, Utility Terrain Vehicles (UTV), golf carts, and any off-highway vehicle (OHV) that is not legally registered for street and highway operation, including operation of such a vehicle in spectator viewing areas.

• Parking any vehicle in violation of posted restrictions, or in such a manner as to obstruct or impede normal or emergency traffic movement or the parking of other vehicles, creating a safety hazard, or endangering any person, property, or feature. Vehicles so parked are subject to citation, removal, and impoundment at the owner's expense.

• Operating a vehicle through, around, or beyond a restrictive sign, recognizable barricade, fence, or traffic control barrier or device.

• Failing to maintain control of a vehicle to avoid danger to persons, property, or wildlife.

• Operating a motor vehicle without due care or at a speed greater than 25 mph.

Signs and maps directing the public to designated spectator areas will be provided by the event sponsor.

Exceptions: Temporary closure restrictions do not apply to activities conducted under contract with the BLM, agency personnel monitoring the event, or activities conducted under an approved plan of operation. Authorized users must have, in their possession, a written permit or contract from BLM signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8360.0-7 and 8364.1.

Shonna Dooman,
Field Manager—Las Vegas Field Office.

[FR Doc. 2019-25512 Filed 11-22-19; 8:45 am]

BILLING CODE 4310-HC-P